DEPARTMENT OF HOMELAND SECURITY

Coast Guard

[Docket No. USCG-2018-0107]

Certificate of Alternative Compliance for the NOAA Research Vessel FERDINAND R. HASSLE

AGENCY: Coast Guard, DHS.

ACTION: Notification of issuance of a certificate of alternative compliance.

SUMMARY: The Coast Guard announces that the U.S. Coast Guard First District Prevention Department has issued a certificate of alternative compliance from the International Regulations for Preventing Collisions at Sea, 1972 (72 COLREGS), for the NOAA Research Vessel FERDINAND R. HASSLER, ON 9478559. We are issuing this notice because its publication is required by statute. Due to the construction and placement of the vessel's side lights, NOAA Research Vessel FERDINAND R. HASSLER cannot fully comply with the light, shape, or sound signal provisions of the 72 COLREGS without interfering with the vessel's design and construction. This notification of issuance of a certificate of alternative compliance promotes the Coast Guard's marine safety mission.

DATES: The Certificate of Alternative Compliance was issued on March 5, 2018.

FOR FURTHER INFORMATION CONTACT: For information or questions about this notice call or email Mr. Kevin Miller, First District Towing Vessel/Barge Safety Specialist, U.S. Coast Guard; telephone (617) 223-8272, email Kevin.L.Miller2@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law ¹ and Coast Guard regulation,² the vessel's owner, builder, operator, or agent of those vessels may apply for a certificate of alternative compliance (COAC).³ For vessels of special construction, the cognizant Coast Guard District Office determines whether the vessel for which the COAC is sought complies as closely as possible with the 72 COLREGS, and decides whether to issue the COAC which must specify the required alternative installation. If the Coast Guard issues a COAC, under the governing statute ⁴ and regulations,⁵ the Coast Guard must publish notice of this action. Once issued, a COAC remains valid until information supplied in the COAC application or the COAC terms become inapplicable to the vessel.

¹ 33 U.S.C. 1605(c).

² 33 CFR 81.3.

³ 33 CFR 81.5.

⁴ 33 U.S.C. 1605(c).

⁵ 33 CFR 81.18.

The First District Prevention Department, U.S. Coast Guard, certifies that the NOAA Research Vessel FERDINAND R. HASSLER, ON 9478559 is a vessel of special construction or purpose, and that, with respect to the position of the vessels side light, it is not possible to comply fully with the requirements of the provisions enumerated in the 72 COLREGS, without interfering with the normal operation, construction, or design of the vessel. The First District Prevention Department further finds and certifies that the vessel's sidelights, located in a position 15′3″ forward of frame 14 and 5′3″ below the top of the bridge/02 Deck mounted to the bridge wing, are in the closet possible compliance with the applicable provisions of the 72 COLREGS.⁶

⁶ 33 U.S.C. 1605(a); 33 CFR 81.9.

This notice is issued under authority of 33 U.S.C. 1605(c) and 33 CFR 81.18.

Dated: March 12, 2018.
Byron L. Black,
Captain, U.S. Coast Guard, Chief, Prevention Division, First Coast Guard District.

[FR Doc. 2018-05608 Filed 3-19-18; 8:45 am]

BILLING CODE 9110-04-P